DEPARTMENT OF ENERGY

Federal Energy Regulatory Commission

Combined Notice of Filings #1

January 30, 2006.

Take notice that the Commission received the following electric rate filings.

Docket Numbers: ER01-205-011; ER98-2640-009; ER98-4590-007; ER99-1610-014.

Applicants: Xcel Energy Services, Inc.; Northern States Power Company and Northern States Power Company (Wisconsin); Public Service Company of Colorado; Southwestern Public Service Company.

Description: Xcel Energy Services, Inc. on behalf of Southwestern Public Service Co. submits a change in status report relating to SPS's market-based rate authority.

Filed Date: January 23, 2006.

Accession Number: 20060127-0125.

Comment Date: 5 p.m. Eastern Time on Monday, February 13, 2006.

Docket Numbers: ER03-191-002.

Applicants: Peaker LLC.

Description: Peaker LLC submits its triennial updated market analysis.

Filed Date: January 24, 2006.

Accession Number: 20060127-0126.

Comment Date: 5 p.m. Eastern Time on Tuesday, February 14, 2006.

Docket Numbers: ER05-1162-000; ER05-1163-000.

Applicants: Entergy Services, Inc.; Entergy Mississippi, Inc. et al.

Description: Entergy Mississippi, Inc. notifies the Commission that the Interconnection Agreement with Attala Transmission LLC accepted by the August 25 Order became effective on January 20, 2006.

Filed Date: January 24, 2006.

Accession Number: 20060126-0263.

Comment Date: 5 p.m. Eastern Time on Tuesday, February 14, 2006.

Docket Numbers: ER06-250-001.

Applicants: Knedergy LLC.

Description: Knedergy LLC submits the petition for acceptance of amended rate schedule, waivers, and blanket authority.

Filed Date: January 23, 2006.

Accession Number: 20060126-0022.

Comment Date: 5 p.m. Eastern Time on Monday, February 13, 2006.

Docket Numbers: ER06-364-001.

Applicants: Trans-Elect NTD Path 15, LLC.

Description: Trans-Elect NTD Path 15, LLC submits revisions to its Transmission Owner Tariff, FERC Electric Tariff Original Volume No. 1, Appendix I, to reflect the annual update for the TRBAA.

Filed Date: January 23, 2006.

Accession Number: 20060126-0023.

Comment Date: 5 p.m. Eastern Time on Monday, February 13, 2006.

Docket Numbers: ER06-510-001.

Applicants: Energy Endeavors, LLC.

Description: Energy Endeavors, LLC submits an amended Petition for Acceptance of Initial Rate Schedule, Waivers and Blanket Authority.

Filed Date: January 23, 2006.

Accession Number: 20060126-0025.

Comment Date: 5 p.m. Eastern Time on Monday, February 13, 2006.

Docket Numbers: ER06-525-000.

Applicants: Global Energy Investments Group, LLC.

Description: Global Energy Investment Group, LLC's petition for acceptance of initial rate schedule, waivers, and blanket authority.

Filed Date: January 23, 2006.

Accession Number: 20060124-0082.

Comment Date: 5 p.m. Eastern Time on Monday, February 13, 2006.

Docket Numbers: ER06-527-000.

Applicants: Westar Energy, Inc.

Description: Westar Energy, Inc. submits First Revised Sheet No. 9 of Rate Schedule 302 and a Letter Agreement with Missouri Joint Municipal Electric Utility Commission.

Filed Date: January 23, 2006.

Accession Number: 20060125-0037.

Comment Date: 5 p.m. Eastern Time on Monday, February 13, 2006.

Docket Numbers: ER06-528-000.

Applicants: Westar Energy, Inc.

Description: Westar Energy, Inc. submits its First Revised Sheet No. 11 of Rate Schedule 303 and a Letter Agreement with Missouri Joint Municipal Electric Utility Commission.

Filed Date: January 23, 2006.

Accession Number: 20060125-0034.

Comment Date: 5 p.m. Eastern Time on Monday, February 13, 2006.

Docket Numbers: ER06-529-000.

Applicants: Westar Energy, Inc.

Description: Westar Energy, Inc. submits the Second Revised Sheet No. 11 of Second Revised Rate Schedule 300 and a Letter Agreement with Missouri Joint Municipal Electric Utility Commission.

Filed Date: January 23, 2006.

Accession Number: 20060125-0035.

Comment Date: 5 p.m. Eastern Time on Monday, February 13, 2006.

Docket Numbers: ER06-530-000.

Applicants: Southern California Edison Company.

Description: Southern California Edison Co. submits revised rate sheets to the Frederick Avenue Wholesale Distribution Load Interconnection Facilities Agreement with the City of Moreno Valley.

Filed Date: January 23, 2006.

Accession Number: 20060125-0036.

Comment Date: 5 p.m. Eastern Time on Monday, February 13, 2006.

Docket Numbers: ER06-532-000.

Applicants: FirstEnergy Service Company.

Description: Midwest Independent Transmission System Operator Inc. et al. submits proposed revisions to ATSI's Attachment O transmission rate formula under Midwest ISO's OATT and EMT, FERC Electric Tariff 3rd Rev Vol No. 1.

Filed Date: January 24, 2006.

Accession Number: 20060126-0016.

Comment Date: 5 p.m. Eastern Time on Tuesday, February 14, 2006.

Docket Numbers: ER06-534-000.

Applicants: Cleco Power, LLC.

Description: Cleco Power, LLC submits pro forma revisions to Attachment K—(Large Generator Interconnection Procedures and Large Generator Interconnection Agreement) in compliance with its OATT.

Filed Date: January 24, 2006.

Accession Number: 20060126-0014.

Comment Date: 5 p.m. Eastern Time on Tuesday, February 14, 2006.

Docket Numbers: ER06-535-000.

Applicants: Pinnacle West Energy Corporation.

Description: Pinnacle West Energy Corp. submits a Notice of Cancellation and an Order 614 Complaint canceled rate schedule sheet to terminate their market-based rate tariff.

Filed Date: January 24, 2006.

Accession Number: 20060126-0018.

Comment Date: 5 p.m. Eastern Time on Tuesday, February 14, 2006.

Docket Numbers: ER06-536-000.

Applicants: GenWest, LLC.

Description: GenWest, LLC submits a notice of cancellation and an Order No. 614 compliant canceled rate schedule sheet that terminate GenWest's market-based rate tariffs.

Filed Date: January 24, 2006.

Accession Number: 20060126-0017.

Comment Date: 5 p.m. Eastern Time on Tuesday, February 14, 2006.

Docket Numbers: ER06-537-000.

Applicants: American Electric Power Service Corp.

Description: The American Electric Power Services Corp., as agent for Kentucky Power Co., requests acceptance of an interconnection & local delivery service agreement between KPCo and the City of Vanceburg, KY.

Filed Date: January 24, 2006.

Accession Number: 20060126-0019.

Comment Date: 5 p.m. Eastern Time on Tuesday, February 14, 2006.

Docket Numbers: ER06-539-000.

Applicants: Central Mississippi Generating Company.

Description: Central Mississippi Generating Co., LLC submits a Notice of Cancellation of its market-based rate tariff, FERC Electric Tariff, original Volume No. 1 under.

Filed Date: January 24, 2006.

Accession Number: 20060127-0128.

Comment Date: 5 p.m. Eastern Time on Tuesday, February 14, 2006.

Docket Numbers: ER97-2801-010; ER03-478-008; ER06-200-003; ER03-1326-003; ER05-534-004; ER05-1262-002; ER03-296-006; ER01-3121-005; ER02-418-004; ER03-416-007; ER05-332-004; ER06-1-002; ER03-951-006; ER04-94-004; ER02-417-004; ER05-1146-004; ER05-481-004.

Applicants: PacifiCorp; PPM Energy, Inc.; Big Horn Wind Project LLC; Colorado Green Holdings LLC; Eastern Desert Power, LLC; Flat Rock Windpower, LLC; Flying Cloud Power Partners, LLC; Klamath Energy LLC; Klamath Generation LLC; Klondike Wind Power LLC; Klondike Wind Power II LLC; Leaning Juniper Wind Power LLC; Moraine Wind LLC; Mountain View Power Partners III, LLC; Phoenix Wind Power LLC; Shiloh I Wind Project, LLC; Trimont Wind I LLC.

Description: Notice of potential departure from characteristics relied upon by Commission in accepting market-based rates.

Filed Date: January 23, 2006.

Accession Number: 20060127-0124.

Comment Date: 5 p.m. Eastern Time on Monday, February 13, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-1479 Filed 2-2-06; 8:45 am]

BILLING CODE 6717-01-P